COMMISSION ON CIVIL RIGHTS

Sunshine Act Notice

AGENCY: United States Commission on Civil Rights.

ACTION: Notice of meeting.

Friday, March 20, 2009, 9:30 a.m.

U.S. Commission on Civil Rights, 624 Ninth Street, NW., Rm. 540, Washington, DC 20425.

Briefing Agenda

Topic: An Examination of Civil Rights Issues with Respect to the Mortgage Crisis.

I. Introductory Remarks by Chairman

II. Speakers' Presentations.

III. Questions by Commissioners and Staff Director.

IV. Adjourn Briefing.

FOR FURTHER INFORMATION CONTACT: Lenore Ostrowsky, Acting Chief, Public Affairs Unit (202) 376-8582. TDD: (202) 376-8116.

Persons with a disability requiring special services, such as an interpreter for the hearing impaired, should contact Pamela Dunston at least seven days prior to the meeting at 202-376-8105. TDD: (202) 376-8116.

Dated: March 10, 2009.
David Blackwood,
General Counsel.

[FR Doc. E9-5510 Filed 3-10-09; 4:15 pm]

BILLING CODE 6335-01-P